DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southwest Region Permit Family of Forms.

OMB Control Number: 0648-0204.

Form Number(s): NA.

Type of Request: Regular submission (extension of a current information collection).

Number of Respondents: 1,761.

Average Hours per Response: Highly Migratory Species (HMS) permit renewals, 6 minutes; Coastal Pelagic Species (CPS) permit renewals, 15 minutes; CPS permit appeals, 2 hours; CPS transfers, 30 minutes; experimental fishing permits (EFPs), 1 hour.

Burden Hours: 135.

Needs and Uses: This request is for r extension of a current information collection. Under the Magnuson-Stevens Fishery Conservation and Management Act, 16 U.S.C. 1801 et seq., permits are required for persons to participate in Federally-managed fisheries off the West Coast. There are three types of permits: basic fishery permits for HMS, limited entry permits for CPS and EFPs. Appeals and certain waiver requests may also be submitted. Transfer applications may also be required.

The permit application forms provide basic information about permit holders and the vessels and gear being used. This information is important for understanding the nature of the fisheries and provides a link to participants. It also aids in enforcement of regulations.

Affected Public: Business or other for-profit organizations.

Frequency: Annually, biannually and on occasion.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: July 15, 2013.
Gwellnar Banks,
Management Analyst, Office of the Chief Information Officer.

[FR Doc. 2013-17274 Filed 7-18-13; 8:45 am]

BILLING CODE 3510-22-P